COMMITTEE FOR THE IMPLEMENTATION OF TEXTILE AGREEMENTS

Request for Public Comment on a Commercial Availability Request Under the U.S.-Singapore Free Trade Agreement

February 2, 2010.

AGENCY: Committee for the Implementation of Textile Agreements (CITA).

ACTION: Request for public comments concerning a request for modification of the U.S.-Singapore Free Trade Agreement (USSFTA) rules of origin for certain apparel articles

SUMMARY: On October 29, 2008, the Government of the United States received a request from the Government of Singapore for consultations under Article 3.18.4(a)(i) of the USSFTA. Singapore is seeking agreement to revise the rules of origin for certain apparel articles to address availability of supply of certain fabrics in the territories of the Parties. The President may proclaim a modification to the USSFTA rules of origin for textile and apparel products after reaching an agreement with the Government of Singapore on the modification. CITA hereby solicits public comments on this request, in particular with regard to whether certain fabrics can be supplied by the domestic industry in commercial quantities in a timely manner. Comments must be submitted by March 10, 2010 to the Chairman, Committee for the Implementation of Textile Agreements, Room 3001, United States Department of Commerce, Washington, DC 20230.

FOR FURTHER INFORMATION CONTACT: Jim Bennett, Office of Textiles and Apparel, U.S. Department of Commerce, (202) 482-4058.

SUPPLEMENTARY INFORMATION:

Authority: Section 202(o)(2) of the United States—Singapore Free Trade Agreement Implementation Act (19 U.S.C. 3805 note) (USSFTA Implementation Act); Executive Order 11651 of March 3, 1972, as amended.

Background

Under the USSFTA, the Parties are required to progressively eliminate customs duties on originating goods. See Article 2.2. The USSFTA provides that, after consultations, the Parties may agree to revise the rules of origin for textile and apparel products to address issues of availability of supply of fibers, yarns, or fabrics in the free trade area. See Article 3.18.4. In the consultations, each Party must consider data presented by the other party showing substantial production in its territory of the particular good. Substantial production has been shown if domestic producers are capable of supplying commercial quantities of the good in a timely manner. See Article 3.18.4.

The USSFTA Implementation Act provides the President with the authority to proclaim modifications to the USSFTA rules of origin as are necessary to implement the Agreement after complying with the consultation and layover requirements of Section 103 of the USSFTA Implementation Act. See Section 202(o)(2). Executive Order 11651 established CITA to supervise the implementation of textile trade agreements and authorizes the Chairman of CITA to take actions or recommend that the United States take actions necessary to implement textile trade agreements. 37 FR 4699 (March 4, 1972).

On October 29, 2008, the Government of the United States received a request from the Government of Singapore, requesting that the United States consider whether the USSFTA rule of origin for apparel articles should be modified to allow for the use of certain non-U.S. and non-Singapore fabrics. The products covered by this request are:

Specifications

(1) Certain knit fabrics of rayon yarn made from bamboo, of the specifications detailed below, classified in the indicated subheadings of the Harmonized Tariff Schedule of the United States (HTS), for use in apparel articles:

Fabric 1

HTS Subheading: 6004.10.00.

Fiber Content: 57% rayon made from bamboo/36% cotton/7% elastomeric.

Yarn Number: 51/1 metric (30/1) rayon made from bamboo and cotton; 225 metric (40 denier) spandex.

Machine Gauge: 24.

Weight: 250 g/m2 (7.4 oz/square yard).

Width: 132 centimeters (52 inches).

Finish: (Piece) dyed.

Fabric 2

HTS Subheading: 6004.10.00.

Fiber Content: 35% rayon made from bamboo/35% cotton/24% polyester/6% spandex.

Yarn Number: 40/1 metric (24/1) rayon made from bamboo and cotton; 180 metric/72 filaments (50 denier/72 filaments) polyester; 300 metric (30 denier) spandex.

Machine Gauge: 24.

Weight: 300 g/m2 (8.85 oz/square yard).

Width: 147.32 centimeters (58 inches).

Finish: (Piece) dyed.

Fabric 3

HTS Subheading: 6001.22.00.

Fiber Content: 79% rayon made from bamboo/15% polyester/6% spandex.

Yarn Number: 40/1 metric (24/1) rayon made from bamboo; 300 metric (30 denier) spandex.

Machine Gauge: 24.

Weight: 295 g/m2 (8.7 oz/square yard).

Width: 132 centimeters (52 inches).

Finish: (Piece) dyed.

(2) Certain knit fabrics of polyester fiber, of the specifications detailed below, classified in the indicated subheadings of the HTS, for use in apparel articles:

Fabric 1

HTS Subheading: 6001.22.00.

Fiber Content: 93% polyester/7% spandex.

Yarn Number: 120 metric/72 filaments (75 denier/72 filaments) polyester; 300 metric (30 denier) spandex.

Machine Gauge: 24.

Weight: 255 g/m2 (7.52 oz/square yard).

Width: 139.7 centimeters (55 inches).

Finish: (Piece) dyed.

Fabric 2

HTS Subheading: 6004.10.00.

Fiber Content: 92% polyester ¹/8% spandex.

¹ Singapore's request specifies recycled polyester.

Yarn Number: 72/2 metric to 75/2 metric (125/2 to 120/2) polyester; 67.7/4 metric (40/4) spandex.

Machine Gauge: 24.

Weight: 300 g/m2 (8.85 oz/square yard).

Width: 152.4 centimeters (60 inches).

Finish: (Piece) dyed.

Fabric 3

HTS Subheading: 6006.32.00.

Fiber Content: 100% polyester.¹

Yarn Number: 72/2 metric to 75/2 metric (125/2 to 120/2).

Machine Gauge: 24.

Weight: 305 g/m2 (9 oz/square yard).

Width: 152.4 centimeters (60 inches).

Finish: (Piece) dyed.

Fabric 4

HTS Subheading: 6001.22.00.

Fiber Content: 92% polyester ¹/8% spandex.

Yarn Number: 120 metric/144 filament (75 denier/144 filament) polyester and 72 metric to 75 metric (125 to 120); 273 metric (33 denier) spandex.

Machine Gauge: Not specified.

Weight: 270 g/m2 (7.97 oz/square yard).

Width: 152.4 centimeters (60 inches).

Finish: (Piece) dyed.

Fabric 5

HTS Subheading: 6004.10.00.

Fiber Content: 90% polyester ¹/10% spandex.

Yarn Number: 120 metric/72 filaments (75 denier/72 filaments).

Machine Gauge: 28.

Weight: 255 g/m2 (7.52 oz/square yard).

Width: 152.4 centimeters (60 inches).

Finish: (Piece) dyed.

Fabric 6

HTS Subheading: 6004.10.10.

Fiber Content: 90% polyester ¹/10% spandex.

Yarn Number: 120 metric/72 filaments (75 denier/72 filaments).

Machine Gauge: 26.

Weight: 310 g/m2 (9.15 oz/square yard).

Width: 152.4 centimeters (60 inches).

Finish: (Piece) dyed.

Fabric 7

HTS Subheading: 6006.32.00.

Fiber Content: 100% polyester.¹

Yarn Number: 120 metric/72 filaments (75 denier/72 filaments).

Machine Gauge: 32.

Weight: 255 g/m2 (7.52 oz/square yard).

Width: 152.4 centimeters (60 inches).

Finish: (Piece) dyed.

Fabric 8

HTS Subheading: 6006.32.00.

Fiber Content: 100% polyester.¹

Yarn Number: 120 metric/72 filaments (60 denier/72 filaments).

Machine Gauge: 28.

Weight: 310 g/m2 (9.15 oz/square yard).

Width: 152.4 centimeters (60 inches).

Finish: (Piece) dyed.

(3) Certain knit fabrics containing fibers made from soya bean, of the specifications detailed below, classified in the indicated subheadings of the HTS, for use in apparel articles:

Fabric 1

HTS Subheading: 6006.22.90.

Fiber Content: 60% cotton/40% soya bean.

Yarn Number: Not specified.

Machine Gauge: Not specified.

Weight: 330 g/m2 (9.74 oz/square yard).

Width: 152.4 centimeters (60 inches).

Finish: (Piece) dyed.

Fabric 2

HTS Subheading: 6004.10.00.

Fiber Content: 60% soya bean/35% cotton/5% spandex.

Yarn Number: 30/1 metric (18/1) soya bean and cotton; 225 metric (40 denier) spandex.

Machine Gauge: 24.

Weight: 210 g/m2 (6.2 oz/square yard).

Width: 157.5 centimeters (62 inches).

Finish: (Piece) dyed.

(4) Fabric fancy polyester filament fabric, of the specifications detailed below, classified in the indicated subheadings of the HTS, for use in apparel articles:

HTS Subheadings: 5407.53.20.20 and 5407.53.20.60.

Fiber Content: 100% polyester.

Width: 58/60 inches.

Construction: Plain, twill and satin weaves, in combinations of 75 denier, 100 denier, 150 denier, and 300 denier yarn sizes, with mixes of 25% cationic/75% disperse, 50% cationic/50% disperse, and 100% cationic.

Finish: Containing at least three different yarns, each of which is dyed a different color.

(5) Certain woven 100% cotton flannel fabrics, of the specifications detailed below, classified in the indicated subheading of the HTS, for use in apparel articles:

HTS Subheading: 5208.43.00.

Fiber Content: 100% cotton.

Yarn Number: 84 to 86 metric warp and filling (49 to 51 English).

Thread Count: 39 to 66 warp ends per centimeter × 27 to 39 filling picks per centimeter (99 to 168 warp ends per inch × 68 to 99 filling picks per inch).

Weave Type: 3 or 4 thread twill.

Weight: 98 to 150 g/m2 (2.9 to 4.4 ounces per sq. yard).

Finish: Of yarns of different colors, yarns are dyed with fiber reactive dyes, plaids, checks and stripes, napped on both sides, pre-shrunk.

(6) Certain 2-way stretch woven fabrics, of the specifications detailed below, classified in the indicated subheading of the HTS, for use in apparel articles:

HTS Subheading: 5515.11.00.

Fiber Content: 60% to 75% polyester/20% to 35% viscose rayon/3% to 6% spandex.

Fiber Length: 51 to 70 millimeter staple (2 to 2.75 inches).

Yarn Number: Warp and filling: 50/2 to 68/2 metric wrapped around 225 metric spandex (30/2 to 40/2 wrapped around 40-denier spandex).

Thread Count: 30 to 32 warp ends × 24 to 26 filling picks per square centimeter (76 to 81 warp ends × 60 to 66 filling picks per square inch).

Weave Type: Various.

Weight: 220 to 250 g/m2 (6.5 to 7.4 oz/square yard).

Width: 142 to 148 centimeters (56 to 59 inches).

Finish: Dyed, of yarns of different colors.

(7) Certain woven two-way stretch fabrics, of the specifications detailed below, classified in the indicated subheading of the HTS, for use in apparel articles:

HTS Subheading: 5515.11.00.

Fiber Content: 60% to 75% polyester/20% to 35% viscose rayon/3% to 6% spandex.

Staple Length: 44 to 70 mm (1.75 to 2.75 inches).

Yarn Number: 40/2 to 84/2 metric wrapped.

Warp and Filling: Around 225 to 118 metric spandex (24/2 to 40/2 English wrapped around 40 to 70 denier spandex).

Thread Count: 24 to 44 warp ends × 16 to 32 filling picks per square centimeter.

Weave Type: Various.

Weight: 200 to 300 g/m2 (5.9 to 8.9 oz/square yard).

Width: 127 to 152 centimeters (50 to 60 inches).

Finish: (Piece) dyed and of yarns of different colors.

(8) Cotton/polyester three-thread circular knit fleece fabric, of the specifications detailed below, classified in the indicated subheading of the HTS, for use in apparel articles:

HTS Subheading: 6001.21.

Fiber Content: 80% cotton/20% polyester.

Yarn Number: 1. Face yarn—100% combed cotton ring spun, 49/1 to 54/1 metric.

(29/1 to 32/1), in each of the following configurations:*

(a) 100% bleached or dyed cotton.

(b) 95% undyed cotton/5% dyed cotton.

(c) 90% undyed cotton/10% dyed cotton.

(d) 80% undyed cotton/20% dyed cotton.

(e) 70% undyed cotton/30% dyed cotton.

(f) 60% undyed cotton/40% dyed cotton.

(g) 50% undyed cotton/50% dyed cotton.

(h) 40% undyed cotton/60% dyed cotton.

(i) 30% undyed cotton/70% dyed cotton.

(j) 25% undyed cotton/75% dyed cotton.

(k) 20% undyed cotton/80% dyed cotton.

*The percentages stated above may vary by up to two percentage points.

2. Tie yarn—183 to 188/48 filament metric filament polyester (49 to 51/48 filament denier).

3. Fleece yarn—70% carded cotton/30% 3600 metric polyester staple, 26/1 to 30/1 metric ring spun (70% cotton/30% 4.0 denier polyester staple, 15.5/1 to 18/1 ring spun).

Machine Gauge: 21.

Weight: 247 to 258 g/m2 (7.3 to 7.5 oz/square yard).

Width: Not less than 152 centimeters cuttable (not less than 60 inches cuttable).

Finish: Napped on technical back; bleached; dyed; of yarns of different colors.

Performance Criteria: Not more than 5% vertical and horizontal shrinkage; not more than 4% vertical torque.

(9) Certain polyester/rayon/spandex two-way stretch woven fabrics, of the specifications detailed below, classified in the indicated subheadings of the HTS, for use in apparel articles:

HTS Subheadings: 5407.92.20 and 5407.93.20.

Fiber Content: 70% to 75% polyester/20% to 25% viscose rayon/3% to 6% spandex.

Yarn Number: Warp: 40/2 to 85/2 metric 60% to 75% polyester staple/20% to 35% viscose rayon staple wrapped around 225 to 126 metric spandex (24/2 to 50/2 wrapped around 40 to 70 denier spandex).

Filling: 90 to 45 metric filament polyester wrapped around 225 to 126 metric spandex (100 to 200 denier wrapped around 40 to 70 denier spandex).

*The stated size of the spandex yarns is in the condition as delivered to the yarn spinner. Variance may occur in the final fabric.

Length of Staple in Warp: 1.75 to 2.75 inches.

Thread Count: 152 to 285 warp ends per centimeter × 101 to 209 filling picks per centimeter (60 to 112 warp ends per inch × 40 to 82 filling picks per inch).

Weave Type: Various.

Weight: 200 to 302 g/m2 (5.9 to 8.9 oz/square yard).

Width: 129 to 152 centimeters (50 to 60 inches).

Finish: (Piece) dyed; of yarns of different colors.

(10) Certain circular knit three-end fleece, of the specifications detailed below, classified in the indicated subheading of the HTS, for use in apparel articles:

HTS Subheading: 6001.21.

Fiber Content: 70% cotton/30% polyester.

Yarn Number: 1. Face yarn—100% combed cotton; 50/1 to 57/1 metric (30/1 to 34/1).

2. Tie yarn—100% filament polyester, 179 metric/48 filaments (50 denier/48 filaments).

3. Fleece yarn—60% combed cotton/40% polyester; 18/1 to 20/1 metric (9/1 to 12/1).

Gauge: 19.

Weight: 271 to 300 g/m2 (8.0 to 8.85 oz/square yard).

Width: 152 to 183 centimeters (60 to 72 inches).

Finish: (Piece) dyed; printed.

In addition, technical back must be heavily napped to produce a fabric thickness of not less than 4.5 millimeters, including the napped pile. Additionally, a portion of the fabric is brushed on the technical face to produce a sueded hand and appearance and a portion is treated with a stain release finish. Finally, the following performance criteria must be satisfied:

—Vertical and horizontal shrinkage must be less than 5%.

—Torque may not exceed 4%.

—All fabrics must have a Class 1 flammability rating.

—For optimum fabric integrity and stitch definition, this fabric must be knit on machines whose number of yarn feeds is a multiple of 3.

(11) Certain circular knit three-end fleece, of the specifications detailed below, classified in the indicated subheading of the HTS, for use in apparel articles:

HTS Subheading: 6001.21.

Fiber Content: 70% cotton/30% polyester.

Yarn Number: 1. Face yarn—100% combed cotton; 50/1 to 57/1 metric (30/1 to 34/1).

2. Tie yarn—100% filament polyester; 179 metric/48 filaments (50 denier/48 filaments).

3. Fleece yarn—60% combed cotton/40% polyester; 18/1 to 20/1 metric (9/1 to 12/1).

Gauge: 21.

Weight: 271 to 300 g/m2 (8.0 to 8.85 oz/square yard).

Width: 152 to 183 centimeters (60 to 72 inches).

Finish: (Piece) dyed; printed.

In addition, the technical back must be heavily napped to produce a fabric thickness of not less than 4.5 millimeters, including the napped pile. Additionally, a portion of the fabric is brushed on the technical face to produce a sueded hand and appearance and a portion is treated with a stain release finish. Finally, the following performance criteria must be satisfied:

—Vertical and horizontal shrinkage must be less than 5%.

—Torque may not exceed 4%.

—All fabrics must have a Class 1 flammability rating.

—For optimum fabric integrity and stitch definition, this fabric must be knit on machines whose number of yarn feeds is a multiple of 3.

(12) Certain circular knit three-end fleece, of the specifications detailed below, classified in the indicated subheading of the HTS, for use in apparel articles:

HTS Subheading: 6001.21.

Fiber Content: 70% cotton/30% polyester.

Yarn Number: 1. Face yarn—100% combed cotton; 47/1 to 57/1 metric (28/1 to 34/1).

2. Tie yarn—100% filament polyester; 120 metric/48 filaments (75 denier/36 filaments).

3. Fleece yarn—60% combed cotton/40% polyester; 17/1 to 24/1 metric (10/1 to 14/1).

Gauge: 18.

Weight: 271 to 300 g/m2 (8.0 to 8.85 oz/square yard).

Width: 152 to 183 centimeters (60 to 72 inches).

Finish: (Piece) dyed; printed.

In addition, the technical back must be heavily napped to produce a fabric thickness of not less than 4.5 millimeters, including the napped pile. Additionally, a portion of the fabric is brushed on the technical face to produce a sueded hand and appearance and a portion is treated with a stain release finish. Finally, the following performance criteria must be satisfied:

—Vertical and horizontal shrinkage must be less than 5%.

—Torque may not exceed 4%.

—All fabrics must have a Class 1 flammability rating.

—For optimum fabric integrity and stitch definition, this fabric must be knit on machines whose number of yarn feeds is a multiple of 3.

(13) Certain circular knit three end fleece, of the specifications detailed below, classified in the indicated subheading of the HTS, for use in apparel articles:

HTS Subheading: 6001.21.

Fiber Content: 70% cotton/30% polyester.

Yarn Number: 1. Face yarn—100% combed cotton; 47/1 to 57/1 metric (28/1 to 34/1).

2. Tie yarn—100% filament polyester; 120 metric/48 filaments (75 denier/36 filaments).

3. Fleece yarn—60% combed cotton/40% polyester; 17/1 to 24/1 metric (10/1 to 14/1).

Gauge: 20.

Weight: 271 to 300 g/m2 (8.0 to 8.85 oz/square yard).

Width: 152 to 183 centimeters (60 to 72 inches).

Finish: (Piece) dyed; printed.

In addition, the technical back must be heavily napped to produce a fabric thickness of not less than 4.5 millimeters, including the napped pile. Additionally, a portion of the fabric is brushed on the technical face to produce a sueded hand and appearance and a portion is treated with a stain release finish. Finally, the following performance criteria must be satisfied:

—Vertical and horizontal shrinkage must be less than 5%.

—Torque may not exceed 4%.

—All fabrics must have a Class 1 flammability rating.

—For optimum fabric integrity and stitch definition, this fabric must be knit on machines whose number of yarn feeds is a multiple of 3.

(14) Certain raschel knit open work crepe fabric, of the specifications detailed below, classified in the indicated subheadings of the HTS, for use in apparel articles:

HTS Subheadings: 6005.42.00.10 and 6005.44.00.10.

Fiber Content: 73% viscose rayon/4% nylon/3% spandex.

Yarn Number: (1) 32/2 to 36/2 metric (18.9/2 to 21.2/2 English) spun viscose rayon.

(2) 163.7 to152.4 metric (55 to 59 denier)/10 filament nylon.

(3) 43.3 to 42.9 metric (208 to 210 denier) spandex wrapped around 132 to 125 metric (68 to 72 denier) nylon.

Machine Gauge: 18.

Number of Bars: 16.

Weight: 0.23 kg/m2 (0.659 linear yards/lb), plus or minus 5%.

Width: Not less than 137 centimeters (54 inches) cuttable for piece dyed goods; not less than 147.32 centimeters (58 inches) for printed goods.

Finish: (Piece) dyed; printed.

Note: This fabric has a unique “blistered” face requiring each of the constituent yarns to be fed separately, with small, regular open-work interstices, representing about 15% of the total surface area.

(15) Certain cotton/nylon woven fabric, of the specifications detailed below, classified in the indicated subheading of the HTS, for use in apparel articles:

HTS Subheadings: 5211.31.0020.

Fiber Content: 75% cotton/25% nylon.

Yarn Number: Warp yarn size: 35.5/1 metric cotton; filling yarn size: 35.5/1 metric (slub yarn of cotton alternating with a 45 metric filament nylon) 41 warp ends/cm; 22 filling picks/cm.

Weight: 223 g/m2.

Width: 147 centimeters.

Weave Type: Plain.

Finish: (Piece) dyed.

(Variance allowance of up to three percent for yarn size, thread count, fabric weight, and fabric width for the above fabric.)

(16) Certain polyester/nylon woven corduroy fabric, of the specifications detailed below, classified in the indicated subheading of the HTS, for use in apparel articles:

HTS Subheading: 5801.32.

Fiber Content: 86% polyester/14% nylon.

Yarn Number: Warp yarn size: 60 metric filament polyester; filling yarn size: 60 metric filament polyester and a 56 metric filament nylon; 28 warp ends/cm; 63 filling picks/cm.

Weight: 250 g/m2.

Width: 150 centimeters.

Weave Type: Corduroy—3 wales/centimeter.

Finish: (Piece) dyed.

(Variance allowance of up to three percent for yarn size, thread count, fabric weight, and fabric width for the above fabric.)

(17) Certain 2-way stretch woven polyester, rayon, spandex fabric, of the specifications detailed below, classified in the indicated subheading of the HTS, for use in apparel articles:

HTS Subheading: 5515.11.00.

Fiber Content: 50% to 77% polyester/18% to 47% rayon/3% to 8% spandex (for fabrics comprising single yarns in the warp, the polyester content may be higher).

Staple Length: 4.44 to 6.99 centimeters (1.75 to 2.75 inches).

Yarn Number: (1) Warp and filling: plied polyester/rayon staple of various yarn sizes, combined with spandex filament of various deniers.

(2) Warp and filling: 34/1 (English 20/1) or finer polyester/rayon staple, combined with spandex filament of various deniers.

(3) Warp: 34/1 (English 20/1) or finer polyester/rayon staple, or plied polyester/rayon staple of various yarn sizes, combined with spandex filament of various deniers.

Filling: Singles or plied polyester filament of various yarn sizes, combined with spandex filament of various deniers.

Note: The designation “34/1 (English 20/1) or finer” describes a range of yarn specifications for yarn in its greige condition before dyeing and finishing of the yarn (if applicable) and before weaving, dyeing and finishing of the fabric. It is intended as a specification to be followed by the mill in sourcing yarn used to produce the fabric. Dyeing, finishing and weaving can alter the characteristic of the yarn as it appears in the finished fabric. This specification therefore includes yarns appearing in the finished fabric as coarser than 34/1 (English 20/1) provided that the coarser appearance occurs solely as the result of such processes.

Thread Count: 23 to 51 warp ends by 16 to 39 filling picks per centimeter (60 to 130 warp ends by 40 to 100 filling picks per inch).

Weave Type: Various (including plain and twill).

Weight: Fabrics comprising single yarns in the warp, 200 to 290 g/m2 (5.9 to 8.6 oz/square yard).

—Fabrics comprising plied yarns in the warp, 200 to 310 g/m2 (5.9 to 9.1 oz/square yard).

Width: 121 to 165 centimeters (English 48 to 65 inches).

Finish: Dyed and of yarns of different colors.

(18) Certain herringbone stretch woven fabrics of polyester, rayon and spandex yarns, of the specifications detailed below, classified in the indicated subheading of the HTS, for use in apparel articles:

HTS Subheading: 5515.11.0040.

Fiber Content: 61% to 67% polyester/30% to 36% rayon/1% to 6% spandex.

Staple Length (where applicable): 3.18 to 4.44 centimeters (1.25 to 1.75 inches).

Yarn Number: Warp: Plied polyester/rayon staple of any yarn size; filling: plied polyester/rayon staple of any yarn size combined with spandex filament of any denier.

Thread Count: 36 to 40 warp ends by 22 to 28 filling picks per centimeter (English 91 to 102 warp ends by 56 to 70 filling picks per inch).

Weave Type: Twill.

Weight: 225 to 250 g/m2 (English 6 to 7.4 oz/square yard).

Width: 144 to 155 centimeters (English 54 to 58 inches).

Finish: (Piece) dyed.

(19) Certain 100% cotton woven indigo dyed fabrics (fabric #1), of the specifications detailed below, classified in the indicated subheadings of the HTS, for use in apparel articles:

HTS Subheadings: 5208.39.6090 and 5208.39.8090.

Fiber Content: 100% combed cotton.

Yarn Number: Metric: 64/2 + 64/2 × 64/2 + 64/2 to 71/2 + 71/2 × 71/2 + 71/2 (English: 38/2 + 38/2 × 38/2 + 38/2 to 42/2 + 42/2 × 42/2 + 42/2).

Construction: Woven with a dobby attachment.

Weight: 150-166 g/m2 (4.4-4.9 oz/square yard).

Width: Metric: 130-144 centimeters (51-57 inches).

Finish: (Piece) dyed with synthetic indigo, color index no: 73000.

(20) Certain 100% cotton woven indigo dyed fabrics (fabric #2), of the specifications detailed below, classified in the indicated subheading of the HTS, for use in apparel articles:

HTS Subheading: 5208.39.8090.

Fiber Content: 100% combed cotton.

Yarn Number: Metric: 97/2 × 64/1 to 107/2 × + 71/1 (English: 57/2 × 38/1 to 63/2 × 42/1).

Construction: Woven with a dobby attachment.

Weight: 124-137 g/m2 (3.7-4.0 oz/square yard).

Width: 135-149 centimeters (53-59 inches).

Finish: (Piece) dyed with synthetic indigo, color index no: 73000.

(21) Certain 100% cotton woven indigo dyed fabrics (fabric #3), of the specifications detailed below, classified in the indicated subheadings of the HTS, for use in apparel articles:

HTS Subheadings: 5208.39.6090 and 5208.39.8090.

Fiber Content: 100% combed cotton.

Yarn Number: Metric: 64/2 + 64/1 × 64/1 to 71/2 + 71/1 × 71/2 (English: 38/2 + 38/1 × 38/1 to 42/2 + 42/1 × 42/1).

Construction: Woven with a dobby attachment.

Weight: 135-149 g/m2 (4.0-4.4 oz/square yard).

Width: 135-149 centimeters (53-59 inches).

Finish: (Piece) dyed with synthetic indigo, color index no: 73000.

CITA is soliciting public comments regarding this request, particularly with respect to whether the fabrics described above can be supplied by the domestic industry in commercial quantities in a timely manner. Comments must be received no later than March 10, 2010. Interested persons are invited to submit six copies of such comments or information to the Chairman, Committee for the Implementation of Textile Agreements, Room 3001, U.S. Department of Commerce, 14th and Constitution Avenue, NW., Washington, DC 20230.

CITA will protect any business confidential information that is marked business confidential from disclosure to the full extent permitted by law. CITA will make available to the public non-confidential versions of the request and non-confidential versions of any public comments received with respect to a request in Room 3001 in the Herbert Hoover Building, 14th and Constitution Avenue, NW., Washington, DC 20230. Persons submitting comments on a request are encouraged to include a non-confidential version and a non-confidential summary.

Kim Glas,
Chairman, Committee for the Implementation of Textile Agreements.

[FR Doc. 2010-2693 Filed 2-5-10; 8:45 am]

BILLING CODE 3510-DS-P